DEPARTMENT OF TRANSPORTATION

Surface Transportation Board

[STB Finance Docket No. 35238 (Sub-No. 1)]

BNSF Railway Company—Temporary Trackage Rights Exemption—Union Pacific Railroad Company

AGENCY: Surface Transportation Board.

ACTION: Partial Revocation of Exemption.

SUMMARY: Under 49 U.S.C. 10502, the Board revokes the class exemption as it pertains to the trackage rights described in STB Finance Docket No. 35238 ¹ to permit the trackage rights to expire at midnight on December 31, 2009, in accordance with the agreement of the parties, subject to the employee protective conditions set forth in Oregon Short Line R. Co.—Abandonment—Goshen, 360 I.C.C. 91 (1979).

¹ On April 9, 2009, the BNSF Railway Company (BNSF) concurrently filed a verified notice of exemption under the Board's class exemption procedures at 49 CFR 1180.2(d)(7). The notice covered the agreement by Union Pacific Railroad Company (UP) to grant temporary local trackage rights to BNSF over UP's lines extending between: (1) UP milepost 93.2 at Stockton, CA, on UP's Oakland Subdivision, and UP milepost 219.4 at Elsey, CA, on UP's Canyon Subdivision, a distance of approximately 126.2 miles, and (2) UP milepost 219.4 at Elsey, CA, and UP milepost 280.7 at Keddie, CA, on UP's Canyon Subdivision, a distance of 61.3 miles. BNSF submits that the trackage rights are only temporary rights, but, because they are “local” rather than “overhead” rights, they do not qualify for the Board's class exemption for temporary trackage rights at 49 CFR 1180.2(d)(8). See BNSF Railway Company—Temporary Trackage Rights Exemption—Union Pacific Railroad Company, STB Finance Docket No. 35238 (STB served Apr. 24, 2009).

DATES: This exemption will be effective on July 22, 2009. Petitions to stay must be filed by July 2, 2009. Petitions for reconsideration must be filed by July 13, 2009.

ADDRESSES: Send an original and 10 copies of all pleadings, referring to STB Finance Docket No. 35238 (Sub-No. 1) to: Surface Transportation Board, 395 E Street, SW., Washington, DC 20423-0001. In addition, a copy of each pleading must be served on BNSF's representative: Karl Morell, of Counsel, Ball Janik LLP, Suite 225, 1455 F Street, NW., Washington, DC 20005.

FOR FURTHER INFORMATION CONTACT: Joseph H. Dettmar, (202) 245-0395. [Assistance for the hearing impaired is available through the Federal Information Relay Service (FIRS) at 1-800-877-8339.]

SUPPLEMENTARY INFORMATION: Additional information is contained in the Board's decision. Board decisions and notices are available on our Web site at http://www.stb.dot.gov.

Decided: June 16, 2009.
By the Board, Acting Chairman Mulvey, and Vice Chairman Nottingham.
Kulunie L. Cannon,
Clearance Clerk.

[FR Doc. E9-14547 Filed 6-19-09; 8:45 am]

BILLING CODE 4915-01-P